DEPARTMENT OF THE INTERIOR

Bureau of Land Management

[WO-350-1430-PF-01-241A]

Extension of Approved Information Collection, OMB Number 1004-0107

AGENCY: Bureau of Land Management, Interior.

ACTION: Notice and request for comments.

SUMMARY: In accordance with the Paperwork Reduction Act of 1995, the Bureau of Land Management (BLM) is announcing its intention to request extension of an existing approval to collect certain information from respondents identified in 43 CFR 2800 and 2880. This information is in addition to that collected on the Form SF-299, OMB No. 1004-0189, and is necessary for those large complex projects which require a right-of-way. On the multi-million dollar energy production and transmission projects, and complex communication sites for which a right-of-way is required, BLM needs information over and above that provided on the application form, such as construction and other plans; a more detailed map; specific certificates; permits and approvals from other agencies; and any other necessary information relative to the completion of the project.

DATES: You must submit your comments to BLM at the appropriate address below on or before February 9, 2001. BLM will not necessarily consider any comments received after the above date.

ADDRESSES: Comments may be mailed to: Regulatory Affairs Group (630), Bureau of Land Management, 1849 C Street NW, Room 401LS, Washington, DC 20240.

Comments may be sent via Internet to: WOComments@blm.gov. Please include “ATTN: 1004-0107” and your name and return address in your Internet message.

Comments may be hand-delivered to the Bureau of Land Management, Administrative Record, Room 401, 1620 L Street, NW, Washington, DC.

Comments will be available for public review at the L Street address during regular business hours (7:45 a.m. to 4:15 p.m.) Monday through Friday.

FOR FURTHER INFORMATION CONTACT: Alzata L. Ransom, Realty Use Group, on (202) 452-7772 (Commercial or FTS). Persons who use a telecommunications device for the deaf (TDD) may call the Federal Information Relay Service (FIRS) at 1-800-877-8330, 24 hours a day, seven days a week, to contact Ms. Ransom.

SUPPLEMENTARY INFORMATION: 5 CFR 1320.12(a) requires BLM to provide a 60-day notice in the Federal Register concerning a collection of information contained in regulations found in 43 CFR 2800 and 2880 to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et seq. BLM grants rights-of-way on public lands through the authority of Title V of the FLPMA, 90 Stat. 2776, 43 U.S.C. 1761 and the Mineral Leasing Act (MLA) of 1920, as amended, 30 U.S.C. 185. Information in addition to that collected on the right-of-way form (SF-299) is needed for large complex projects. There is no standard form for the collection of this required additional information. The information required in 43 CFR Parts 2800 and 2880 is needed to enable the BLM to determine whether or not a right-of-way may be granted, establish the terms and conditions of the grant and administer the grant when made. Additional information in the form of construction and other plans; detailed maps; certification, permits and approvals required by other agencies; and other information necessary for the completion of the project are authorized by 43 CFR 2802.4, 2881.2, and 2882.3. Each right-of-way is an individual situation and the information collected is specific to that individual proposal and only available from the applicant. BLM may require additional information in the form of a plan. This plan is a product of the NEPA requirements. It is a useful working tool that enables both the BLM and the applicant to have a common understanding on how the project will proceed. BLM may also require an as-built map. These maps show greater detail than the basic location map required to be submitted with the application. A more exact location of the holder's right-of-way and related facilities will give the holder more protection for their improvements. The BLM also requires assurances that certifications, permits, and approvals required by others and identified during the NEPA analysis process have been obtained. BLM may require a detailed description of alternative routes the applicant considered when developing the proposal. BLM uses such information to gain insight into the complexities and conflicts of the proposals. BLM may request statements of need and economic feasibility and of the environmental, social, and economic effects of the proposal to assist us in evaluating the proposal with respect to NEPA compliance. If the BLM fails to properly collect the required information including plans, construction schedules, maps specific certificates, permits, and approvals necessary for the completion of the project, the BLM will reject the right-of-way application.

Based on BLM's experience administering the activities described above, approximately 25 percent of the 4,000 applications the BLM receives annually require additional information collection. The applicants are usually large companies that seek to construct large complex projects on public lands which require a right-of-way. The public reporting burden for the information collected is estimated to average 16.8 hours per response. The frequency of response is once. The estimated total annual burden on new respondents is about 16,800 hours. BLM will summarize all responses to this notice and include them in the request for Office of Management and Budget approval. All comments will also become a matter of public record.

Dated: December 5, 2000.
Michael Schwartz,
BLM Information Collection Clearance Officer.

[FR Doc. 00-31364 Filed 12-8-00; 8:45 am]

BILLING CODE 4310-84-M